DEPARTMENT OF JUSTICE

Antitrust Division

Notice Pursuant to the National Cooperative Research and Production Act of 1993—VSI Alliance

Notice is hereby give that, on April 16, 2002, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Acuid Limited, Edinburgh, Scotland, United Kingdom; Bob Altizer (individual member), Phoenix, AZ; Suzanne Harrison (individual member), Palo Alto, CA; Gerald Keeler (individual member), San Francisco, CA; Sadrudin Laiwala (individual member), Fremont; CA; David Laone (individual member), San Jose, CA; Zainalabedin Navabi (individual member), Boston, MA; Patrick Sullivan (individual member), Palo Alto, CA; Angela Sutton (individual member), Redwood City, CA; Joe Villella (individual member), Palo Alto, CA; and NewLogic Technologies AG, Lustenau, Austria have been added as parties to this venture. Also, 3DSP Corporation, Irvine, CA; American Microsystems, Inc., Pocatello, ID; Ando Electric Co. Ltd., Tokyo, Japan; Axys Design Automation, Irvine, CA; C Level Design, Campbell, CA; Fluence Technology, Inc., Beaverton, OR; Fuji Xerox Co. Ltd., Kanagawa, Japan; inSilicon Corp., San Jose, CA; Intensys, San Jose, CA; MIPS Technologies, Mountain View, CA; Monterey Design Systems, Sunnyvale, CA; Paxonet Communications, Pune, Maharashtra, India; Silicon Metrics, Austin, TX; Teradyne, Inc., Agoura Hills, CA; Xilinx, San Jose, CA; Zaiq Technologies, Inc., Woburn, MA; and NewLogic Consulting & Technology GmbH, Lustenau, Austria have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on January 15, 2002. A notice was published in the Federal Register pursuant to section 6(b) of the Act on March 8, 2002 (67 FR 10763).

Constance K. Robinson,
Director of Operations, Antitrust Division.

[FR Doc. 02-13306 Filed 5-28-02; 8:45 am]

BILLING CODE 4410-11-M